CIVIL RIGHTS COMMISSION

Sunshine Act Meeting

AGENCY: U.S. Commission on Civil Rights.

DATE AND TIME: Friday, July 21, 2000, 9:30 a.m.

PLACE: U.S. Commission on Civil Rights, 624 Ninth Street, N.W., Room 540, Washington, DC 20425.

STATUS:

Agenda

I. Approval of Agenda

II. Approval of Minutes of June 16, 2000 Meeting

III. Announcements

IV. Staff Director's Report

V. State Advisory Committee Appointments for Arkansas and Oklahoma

VI. “Fair Employment Enforcement Efforts: Overcoming the Past, Focusing on the Future: An Assessment of EEOC's Enforcement Efforts” Report

VII. Future Agenda Items

CONTACT PERSON FOR FURTHER INFORMATION: David Aronson, Press and Communications, (202) 376-8312.

Edward A. Hailes, Jr.,
Acting General Counsel.

[FR Doc. 00-18021 Filed 7-12-00; 2:11 pm]

BILLING CODE 6335-01-M